DEPARTMENT OF HOMELAND SECURITY

Transportation Security Administration

Extension Agency Information Collection Activity Under OMB Review: Department of Homeland Security—Vulnerability Identification Self-Assessment Tool—Transportation (DHS-VISAT-T)

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on September 23, 2005, 70 FR 55915.

DATES: Send your comments by December 27, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995 (44 U.S.C. 3501 (et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Department of Homeland Security—Vulnerability Identification Self-Assessment Tool—Transportation (DHS-VISAT-T).

Type of Request: Extension of a currently approved collection.

OMB Control Number: 1652-0037.

Forms(s): Not applicable.

Affected Public: Various modal transportation sector owners and operators.

Abstract: This voluntary collection, by way of a web-based vulnerability assessment tool, allows TSA to gather security-related data and provides a cost-free service to the transportation sector. TSA designed this tool to be flexible to support the unique characteristics of each transportation mode, while still providing a common framework from which analysis and trends can be identified. Users may use the results of the assessment to develop a security plan or to identify areas of potential vulnerability. Information regarding how to access the tool is available on TSA' Web site: http://www.tsa.gov. Select “Industry Partners,” then “Risk Management,” then finally select the “DHS-VISAT” link.

Number of Respondents: 300,245.

Estimated Annual Burden Hours: An estimated 2,401,960 hours annually.

Issued in Arlington, Virginia, on November 18, 2005.
Lisa S. Dean,
Privacy Officer.

[FR Doc. 05-23243 Filed 11-23-05; 8:45 am]

BILLING CODE 4910-62-P